DEPARTMENT OF THE INTERIOR

Bureau of Land Management

[20X.LLIDC00000. L16100000. XG0000. 241A00. 4500146430]

Notice of Mailing/Street Address Change for the BLM—Coeur d'Alene District Office, Field Office, and District Warehouse

AGENCY: Bureau of Land Management, Interior.

ACTION: Notice.

SUMMARY: This notice announces changes to the mailing and street address for the Bureau of Land Management (BLM) Coeur d'Alene District Office, the Coeur d'Alene Field Office, and the BLM Coeur d'Alene District Warehouse.

DATES: The date for the changes will be on or about October 19, 2020.

FOR FURTHER INFORMATION CONTACT: Richard Alvarez, Lead Property Management Specialist, BLM Idaho State Office; 208-373-3916; ralvarez@blm.gov. Persons who use a telecommunications device for the deaf (TDD) may call the Federal Relay Service (FRS) at 1-800-877-8339 to contact Mr. Alvarez during normal business hours. The FRS is available 24 hours a day, seven days a week, to leave a message or question with Mr. Alvarez. You will receive a reply during normal business hours.

SUPPLEMENTARY INFORMATION: The mailing and street address for the Bureau of Land Management (BLM) Coeur d'Alene District Office and Coeur d'Alene Field Office will be changed from 3815 Schreiber Way, Coeur d'Alene, Idaho 83815, to 3232 West Nursery Road, Coeur d'Alene, Idaho 83815.

The mailing and street address for the BLM Coeur d'Alene District Warehouse will be changed from 3815 Schreiber Way, Coeur d'Alene, Idaho 83815, to 3260 West Nursery Road, Coeur d'Alene, Idaho 83815.

Authority: Departmental Manual 382, Chapter 2.1.

John F. Ruhs,
BLM Idaho State Director.

[FR Doc. 2020-21503 Filed 9-28-20; 8:45 am]

BILLING CODE 4310-GG-P